DEPARTMENT OF DEFENSE

Defense Acquisition Regulations System

48 CFR Part 252

Defense Federal Acquisition Regulation Supplement; Technical Amendment

AGENCY: Defense Acquisition Regulations System, Department of Defense (DoD).

ACTION: Final rule.

SUMMARY: DoD is making technical amendments to the Defense Federal Acquisition Regulation Supplement (DFARS) to provide needed editorial changes.

DATES: Effective Date: February 24, 2012.

FOR FURTHER INFORMATION CONTACT: Ms. Ynette Shelkin, Defense Acquisition Regulations System, OUSD (AT&L) DPAP (DARS), Room 3B855, 3060 Defense Pentagon, Washington, DC 20301-3060. Telephone 703-602-8384; facsimile 703-602-7887.

SUPPLEMENTARY INFORMATION: This final rule amends the DFARS as follows:

○ 252.212-7001 Revises the clause date and makes conforming changes to the dates of the DFARS clauses referenced in paragraphs (b)(20) and (c)(2) of the clause.

○ 252.227-7013 Revises the clause date and corrects paragraph numbers referenced in paragraphs (b)(2)(i)(A), (b)(4), and (b)(6) of the clause.

○ 252.227-7014 Revises the clause date and corrects paragraph numbers referenced in paragraphs (b)(4)(i) and (b)(6) of the clause.

List of Subjects in 48 CFR Part 252

Government procurement.

Ynette R. Shelkin,
Editor, Defense Acquisition Regulations System.

Therefore, 48 CFR part 252 is amended as follows:

PART 252—SOLICITATION PROVISIONS AND CONTRACT CLAUSES

1. The authority citation for 48 CFR part 252 continues to read as follows:

Authority: 41 U.S.C. 1303 and 48 CFR chapter 1.

252.212-7001 [Amended]

2. Section 252.212-7001 is amended by removing the clause date “(JANUARY 2012)” and adding “(FEB 2012)” in its place, in paragraph (b)(20), removing “(SEP 2011)” and adding “(FEB 2012)” in its place, and in paragraph (c)(2), removing “(SEP 2011)” and adding “(FEB 2012)” in its place.

252.227-7013 [Amended]

3. Section 252.227-7013 is amended by removing the clause date “(SEP 2011)” and adding “(FEB 2012)” in its place, in paragraph (b)(2)(i)(A), removing “as provided in paragraphs (b)(ii) and (b)(iv) through (b)(ix) of this clause” and adding “as provided in paragraphs (b)(1)(ii) and (b)(1)(iv) through (b)(1)(ix) of this clause” in its place, in paragraph (b)(4), removing “enumerated in paragraph (a)(13) of this clause” and adding “enumerated in paragraph (a)(14) of this clause” in its place, and in paragraph (b)(6), removing “in accordance with paragraph (a)(13)” and adding “in accordance with paragraph (a)(14)” in its place.

252.227-7014 [Amended]

4. Section 252.227-7014 is amended by removing the clause date “(MAR 2011)” and adding “(FEB 2012)” in its place, in paragraph (b)(4)(i), removing “enumerated in paragraph (a)(14) of this clause or lesser rights in computer software documentation than are enumerated in paragraph (a)(13)” and adding “enumerated in paragraph (a)(15) of this clause or lesser rights in computer software documentation than are enumerated in paragraph (a)(14)” in its place, and in paragraph (b)(6), removing “made in accordance with paragraph (a)(14)” and adding “made in accordance with paragraph (a)(15)” in its place.

[FR Doc. 2012-4319 Filed 2-23-12; 8:45 am]

BILLING CODE 5001-06-P